DEPARTMENT OF DEFENSE

Department of the Army; Corps of Engineers

Notice of Availability for the Revised Draft Environmental Impact Statement/Environmental Impact Report for the Pier J South Marine Terminal Expansion Project, Los Angeles County, CA

AGENCY: Department of the Army—U.S. Army Corps of Engineers, DoD.

ACTION: Notice of availability.

SUMMARY: The U.S. Army Corps of Engineers, Los Angeles District (Regulatory Branch), in coordination with the Port of Long Beach, has completed a Revised Draft Environmental Impact Statement/Environmental Impact Report (EIS/EIR) for the Pier J South Marine Terminal Expansion project. The Port of Long Beach requires authorization pursuant to section 404 of the Clean Water Act and section 10 of the Rivers and Harbors Act for 115 acres of landfill in three phases, dredging up to 10,000,000 cubic yards of sediment, construction of a new concrete pile-supported wharf, new terminal buildings and a new rail yard.

FOR FURTHER INFORMATION CONTACT: Questions or comments concerning the Revised Draft EIS/EIR should be directed to Dr. Aaron O. Allen, Senior Project Manager, Regulatory Branch, U.S. Army Corps of Engineers, P.O. Box 532711, Los Angeles, CA, 90053-2325, (805) 585-2148.

SUPPLEMENTARY INFORMATION: None.

John V. Guenther,
Acting Commander.

[FR Doc. 03-20645 Filed 8-12-03; 8:45 am]

BILLING CODE 3710-KF-P